DEPARTMENT OF COMMERCE

National Telecommunications and Information Administration

Notice, Roundtable on Convergence of Communications Technologies, “Voice over Internet Protocol (VoIP)”

AGENCY: National Telecommunications and Information Administration, Department of Commerce.

ACTION: Notice of public meeting.

SUMMARY: The National Telecommunications and Information Administration (NTIA) will host an afternoon roundtable discussion on Voice over Internet Protocol (VoIP). The roundtable will address the technical and functional aspects of VoIP, the state of the VoIP marketplace, and the policy and regulatory issues that may arise with use of such convergence technology.

DATES: The roundtable will be held 1 p.m. to 5 p.m., Wednesday, February 12, 2003.

ADDRESSES: The roundtable will be held at the U.S. Department of Commerce, 1401 Constitution Avenue, NW., Washington, DC in Room 4830. (Entrance to the Department of Commerce is on 14th Street between Constitution and Pennsylvania avenues.) This roundtable is open to the public. To facilitate entry into the Department of Commerce, please have a photo identification and/or U.S. Government building pass, if applicable.

FOR FURTHER INFORMATION CONTACT: Jennifer Guy, Office of the Assistant Secretary for Communications and Information, at (202) 482-1840, or electronic mail: jguy@ntia.doc.gov. Media inquiries should be directed to the Office of Public Affairs, NTIA, at (202) 482-7002.

SUPPLEMENTARY INFORMATION: Advancements in the development of Internet Protocol (IP) technologies are expanding the viability of IP-based networks to support additional features, including the transmission of voice, commonly referred to as VoIP. While traditional telephone service uses circuit-switched technology to establish a dedicated line between communicating parties, VoIP applications use packet-switched technology that divides the voice transmission into packets of data and sends them over the fastest available route. VoIP systems may use bandwidth more efficiently and may represent cost savings for providers and subscribers by using a single network for both voice and data. VoIP has been developing over the last decade, with a number of companies already deploying the service or announcing introduction in the near future.

NTIA's roundtable will address the issues necessary to understand VoIP, how it works, the marketplace trends, and the impacts VoIP may have on communications and information policies and regulations. As the principal adviser to the President on communications and information policies, NTIA is vested with “[t]he authority to conduct studies and make recommendations concerning the impact of the convergence of computer and communications technology.” 47 U.S.C. § 902(M). The roundtable dialogue will help the Administration to better understand the technology, its relation to the telecommunications market, especially to broadband, and prepare for participation in other venues, including the International Telecommunications Union (ITU).

The roundtable will be divided into three sessions. First, NTIA will present a brief overview of VoIP, featuring a demonstration of VoIP technology using the Commerce Department's newly-installed VoIP telephone system. Two panel discussions will follow: the first panel will focus on the VoIP marketplace, and the second panel will address policy considerations for VoIP. Each of these sessions will also include a brief audience question and answer session.

The roundtable will be webcast. A final, updated copy of the agenda, including a link for the webcast will be available on NTIA's web page at www.ntia.doc.gov.

Public Participation

This meeting will be open to the public. Seating for public attendees is limited and is available on a first-come, first served basis. The roundtable will be physically accessible to people with disabilities. Any member of the public wishing to attend and requiring special services, such as sign language interpretation or other ancillary aids, should contact Jennifer Guy (see contact information above) at least three (3) days prior to the meeting.

Dated: January 9, 2003.
Kathy D. Smith,
Chief Counsel, National Telecommunications and Information Administration.

[FR Doc. 03-801 Filed 1-14-03; 8:45 am]

BILLING CODE 3510-60-M